SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 17, 2007.

ADDRESSES: Send all comments regarding whether this information collection is necessary for the proper performance of the function of the agency, whether the burden estimates are accurate, and if there are ways to minimize the estimated burden and enhance the quality of the collection, to Gail Hepler, Chief 7a Loan Policy Branch, Office of Financial Assistance, Small Business Administration, 409 3rd Street, SW., Suite 8300, Washington, DC 20416.

FOR FURTHER INFORMATION CONTACT: Gail Hepler, Chief 7a Loan Policy Branch, Office of Financial Assistance, 202-205-7530, gail.hepler@sba.gov; Curtis B. Rich, Management Analyst, 202-205-7030, curtis.rich@sba.gov.

SUPPLEMENTARY INFORMATION:

Title: “Gulf Coast Relief Financing Pilot Information Collection”.

Description of Respondents: Small Businesses devastated by Hurricanes Katrina and Rita.

Form No's: 2276 A/B/C, 2281, 2282.

Annual Responses: 500.

Annual Burden: 375.

ADDRESSES: Send all comments regarding whether this information collection is necessary for the proper performance of the function of the agency, whether the burden estimates are accurate, and if there are ways to minimize the estimated burden and enhance the quality of the collection, to Sandy Johnston, Program Analyst, Office of Financial Assistance, Small Business Administration, 409 3rd Street, SW., Suite 8300, Washington, DC 20416.

FOR FURTHER INFORMATION CONTACT: Gail Hepler, Chief 7a Loan Policy Branch, Office of Financial Assistance, 202-205-7528, sandra.johnston@sba.gov; Curtis B. Rich, Management Analyst, 202-205-7030, curtis.rich@sba.gov..

SUPPLEMENTARY INFORMATION:

Title: “Personal Financial Statement.”

Description of Respondents: Applicants for an SBA Loan.

Form No: 413.

Annual Responses: 148,788.

Annual Burden: 223,182.

Title: “Applications for Business Loans.”

Description of Respondents: Applicants for an SBA Loan.

Form No's: 4, 4Sch, 4-Short, 4I.

Annual Responses: 51,000.

Annual Burden: 530,000.

Title: “Secondary Participation Guaranty Agreement.”

Description of Respondents: SBA participating Lenders.

Form No's: 1502, 1086.

Annual Responses: 14,000.

Annual Burden: 42,000.

Jacqueline White,
Chief, Administrative Information Branch.

[FR Doc. E7-20338 Filed 10-15-07; 8:45 am]

BILLING CODE 8025-01-P